DEPARTMENT OF HOMELAND SECURITY

Coast Guard

[Docket No. USCG-2015-0912]

Merchant Marine Personnel Advisory Committee

AGENCY: Coast Guard, DHS.

ACTION: Notice of Federal Advisory Committee Teleconference Meeting.

SUMMARY: The Merchant Marine Personnel Advisory Committee will meet, via teleconference, to discuss Task Statement 89, concerning the review and update of IMO MSC Circular MSC/Circ.1014- Guidelines on fatigue mitigation and management. This meeting will be open to the public.

DATES: The full committee will meet by teleconference on Thursday, October 22, 2015, from 11 a.m. until 1 p.m. Eastern Daylight Time. Please note that this meeting may close early if the committee has completed its business.

ADDRESSES: To join the teleconference, contact the individual listed in the FOR FURTHER INFORMATION CONTACT section to obtain the needed information no later than 3 p.m. on October 20, 2015. The number of teleconference lines is limited and will be available on a first-come, first-served basis. If you prefer to join in person at U.S. Coast Guard Headquarters, it will hosted in Room 6J07-02, 2703 Martin Luther King Jr Ave SE., Washington, DC 20593-7509. These attendees at the U.S. Coast Guard Headquarters, who are U.S. citizens, will be required to pre-register no later than 5 p.m. on October 20, 2015, to be admitted to the meeting. This pre-registration should include your name, telephone number, and company or group with which you are affiliated. Non-US citizens will be required to pre-register no later than 5 p.m. on October 06, 2015, to be admitted to the meeting. This pre-registration should include name, country of citizenship, passport and expiration date, or diplomatic ID number and expiration date, and the company or group with which you are affiliated. All attendees will be required to provide a government-issued picture identification card in order to gain admittance to the building. To pre-register, contact Mr. Davis Breyer at 202-372-1445 or Davis.J.Breyer@uscg.mil. For information on facilities or services for individuals with disabilities or to request special assistance, contact the individual listed in the FOR FURTHER INFORMATION CONTACT as soon as possible.

To facilitate public participation, we are inviting public comment on the issue to be considered by the Committee as listed in the “Agenda” section below. Written comments for distribution to Committee members must be submitted no later than October 16, 2015, if you want the Committee members to be able to review your comments before the meeting, and must be identified by docket number USCG-2015-0912. Written comments may be submitted using the Federal eRulemaking Portal at http://www.regulations.gov. If your material cannot be submitted using http://www.regulations.gov, contact the individual in the FOR FURTHER INFORMATION CONTACT section of this document for alternate instructions.

Instructions: All submissions must include the words “Department of Homeland Security” and the docket number for this action. Comments received will be posted without alteration at http://regulations.gov, including any personal information provided. You may review a Privacy Act notice regarding the Federal Docket Management System in the March 24, 2005, issue of the Federal Register (70 FR 15086).

Docket: For access to the docket to read documents or comments related to this notice, go to http://www.regulations.gov, type USCG-2015-0912 in the Search box, press Enter, and then click on the item you wish to view.

FOR FURTHER INFORMATION CONTACT: Mr. Davis Breyer, Alternate Designated Federal Officer of the Merchant Marine Personnel Advisory Committee, 2703 Martin Luther King Jr. Ave. SE., Stop 7509, Washington, DC 20593-7509, telephone 202-372-1445, fax 202-372-8382 or davis.j.breyer@uscg.mil.

SUPPLEMENTARY INFORMATION: Notice of this meeting is given under the Federal Advisory Committee Act, 5 United States Code Appendix.

The Merchant Marine Personnel Advisory Committee is an advisory committee authorized under section 310 of the Howard Coble Coast Guard and Maritime Transportation Act of 2014, Title 46, United States Code, section 8108, and chartered under the provisions of the Federal Advisory Committee Act. The Committee acts solely in an advisory capacity to the Secretary of the Department of Homeland Security through the Commandant of the Coast Guard on matters relating to personnel in the U.S. merchant marine, including training, qualifications, certification, documentation, and fitness standards and other matters as assigned by the Commandant. The Committee advises, consults with, and makes recommendations reflecting its independent judgment to the Secretary.

Agenda of Meeting

The agenda for the October 22, 2015 Merchant Marine Personnel Advisory Committee meeting is as follows:

1. Introductions and opening remarks.

2. Coast Guard Leadership Remarks;

3. Committee will review, discuss, and formulate recommendations on the review and update of IMO MSC Circular MSC/Circ.1014—Guidelines on fatigue mitigation and management.

4. Public comment period.

5. Committee will then finalize recommendations on the review and update of IMO MSC Circular MSC/Circ.1014—Guidelines on fatigue mitigation and management.

Public comments will be limited to 3 minutes per speaker. Please note that the public comment period will end following the last call for comments. Please contact the individual listed in the FOR FURTHER INFORMATION CONTACT section, to register as a speaker.

Dated: September 25, 2015.
J. G. Lantz,
Director of Commercial Regulations and Standards, United States Coast Guard.

[FR Doc. 2015-24833 Filed 9-30-15; 8:45 am]

BILLING CODE 9110-04-P